DEPARTMENT OF ENERGY

Federal Energy Regulatory Commission

Combined Notice of Filings #1

Take notice that the Commission received the following electric corporate filings:

Docket Numbers: EC25-121-000.

Applicants: Guernsey Power Station LLC, Talen Generation, LLC.

Description: Joint Application for Authorization Under Section 203 of the Federal Power Act of Guernsey Power Station LLC, et al.

Filed Date: 7/30/25.

Accession Number: 20250730-5221.

Comment Date: 5 p.m. ET 9/15/25.

Take notice that the Commission received the following exempt wholesale generator filings:

Docket Numbers: EG25-422-000.

Applicants: Hashknife Energy Center LLC.

Description: Hashknife Energy Center LLC submits Notice of Self-Certification of Exempt Wholesale Generator Status.

Filed Date: 7/30/25.

Accession Number: 20250730-5149.

Comment Date: 5 p.m. ET 8/20/25.

Docket Numbers: EG25-423-000.

Applicants: Arlington Valley Solar Energy, LLC.

Description: Arlington Valley Solar Energy, LLC submits Notice of Self-Certification of Exempt Wholesale Generator Status.

Filed Date: 7/31/25.

Accession Number: 20250731-5052.

Comment Date: 5 p.m. ET 8/21/25.

Take notice that the Commission received the following complaints and compliance filings in EL Dockets:

Docket Numbers: EL25-109-000.

Applicants: North Dakota Public Service Commission, et al. v. Midcontinent Independent System Operator, Inc.

Description: Complaint of North Dakota Public Service Commission, et al. v. Midcontinent Independent System Operator, Inc.

Filed Date: 7/30/25.

Accession Number: 20250730-5091.

Comment Date: 5 p.m. ET 8/19/25.

Take notice that the Commission received the following electric rate filings:

Docket Numbers: ER10-2290-000.

Applicants: Avista Corporation.

Description: Supplement to 06/30/2025, Triennial Market Power Analysis for Northwest Region of Avista Corporation.

Filed Date: 7/28/25.

Accession Number: 20250728-5176.

Comment Date: 5 p.m. ET 8/18/25.

Docket Numbers: ER11-3377-016.

Applicants: Horseshoe Bend Wind, LLC.

Description: Market: Updated Market Power Analysis, Notice of Change in Status & Revised MBR Tariff to be effective 8/1/2025.

Filed Date: 7/31/25.

Accession Number: 20250731-5183.

Comment Date: 5 p.m. ET 9/29/25.

Docket Numbers: ER24-1390-001.

Applicants: Five Elements Energy II LLC.

Description: Compliance filing: Compliance to 1 to be effective 9/30/2025.

Filed Date: 7/31/25.

Accession Number: 20250731-5104.

Comment Date: 5 p.m. ET 8/21/25.

Docket Numbers: ER25-3034-000.

Applicants: Portland General Electric Company.

Description: 205(d) Rate Filing: PGE- PacifiCorp Cost Reimbursement Agreement to be effective 9/28/2025.

Filed Date: 7/30/25.

Accession Number: 20250730-5144.

Comment Date: 5 p.m. ET 8/20/25.

Docket Numbers: ER25-3035-000.

Applicants: Pacific Gas and Electric Company.

Description: 205(d) Rate Filing: WDT SA 275: City and County of San Francisco Q2 2025 Filing to be effective 6/30/2025.

Filed Date: 7/31/25.

Accession Number: 20250731-5001.

Comment Date: 5 p.m. ET 8/21/25.

Docket Numbers: ER25-3036-000.

Applicants: PPL Electric Utilities Corporation.

Description: 205(d) Rate Filing: PPL submits IA-SA No. 7675 to be effective 9/29/2025.

Filed Date: 7/31/25.

Accession Number: 20250731-5029.

Comment Date: 5 p.m. ET 8/21/25.

Docket Numbers: ER25-3037-000.

Applicants: Mid-Atlantic Interstate Transmission, LLC.

Description: 205(d) Rate Filing: MAIT submits IA-SA No. 6647 to be effective 9/29/2025.

Filed Date: 7/31/25.

Accession Number: 20250731-5030.

Comment Date: 5 p.m. ET 8/21/25.

Docket Numbers: ER25-3038-000.

Applicants: Midcontinent Independent System Operator, Inc., ALLETE, Inc.

Description: 205(d) Rate Filing: ALLETE, Inc. submits tariff filing per 35.13(a)(2)(iii): 2025-07-31_SA 4542 Minnesota Power—ALLETE Enterprises E&P (J2097) to be effective 7/16/2025.

Filed Date: 7/31/25.

Accession Number: 20250731-5036.

Comment Date: 5 p.m. ET 8/21/25.

Docket Numbers: ER25-3039-000.

Applicants: AL Solar G, LLC.

Description: 205(d) Rate Filing: AL Solar G Initial MBR Application Filing to be effective 8/15/2025.

Filed Date: 7/31/25.

Accession Number: 20250731-5066.

Comment Date: 5 p.m. ET 8/21/25.

Docket Numbers: ER25-3040-000.

Applicants: AEP Texas Inc.

Description: 205(d) Rate Filing: AEPTX—Midnight Sun Energy Storage Generation Interconnection Agreement to be effective 7/14/2025.

Filed Date: 7/31/25.

Accession Number: 20250731-5069.

Comment Date: 5 p.m. ET 8/21/25.

Docket Numbers: ER25-3041-000.

Applicants: AEP Texas Inc.

Description: 205(d) Rate Filing: AEPTX—Rutile BESS Generation Interconnection Agreement to be effective 7/17/2025.

Filed Date: 7/31/25.

Accession Number: 20250731-5070.

Comment Date: 5 p.m. ET 8/21/25.

Docket Numbers: ER25-3042-000.

Applicants: Midcontinent Independent System Operator, Inc.

Description: 205(d) Rate Filing: 2025-07-31_Filing to Reconcile the Tariff to be effective 9/30/2025.

Filed Date: 7/31/25.

Accession Number: 20250731-5071.

Comment Date: 5 p.m. ET 8/21/25.

Docket Numbers: ER25-3043-000.

Applicants: Midcontinent Independent System Operator, Inc.

Description: 205(d) Rate Filing: 2025-07-31_SA 3639 Termination of ITC Midwest—Elk Creek Solar E&P (J1164) to be effective 8/1/2025.

Filed Date: 7/31/25.

Accession Number: 20250731-5073.

Comment Date: 5 p.m. ET 8/21/25.

Docket Numbers: ER25-3044-000.

Applicants: Midcontinent Independent System Operator, Inc., American Transmission Company LLC.

Description: 205(d) Rate Filing: American Transmission Company LLC submits tariff filing per 35.13(a)(2)(iii): 2025-07-31_SA 4540 ATCLLC—MBLP CFA to be effective 9/30/2025.

Filed Date: 7/31/25.

Accession Number: 20250731-5075.

Comment Date: 5 p.m. ET 8/21/25.

Docket Numbers: ER25-3045-000.

Applicants: Energy Center Paxton LLC.

Description: Compliance filing: Market-Based Rate Tariff Revisions to be effective 8/1/2025.

Filed Date: 7/31/25.

Accession Number: 20250731-5076.

Comment Date: 5 p.m. ET 8/21/25.

Docket Numbers: ER25-3046-000.

Applicants: Three Rivers District Energy, LLC.

Description: Compliance filing: Market-Based Rate Tariff Revisions to be effective 8/1/2025.

Filed Date: 7/31/25.

Accession Number: 20250731-5077.

Comment Date: 5 p.m. ET 8/21/25.

Docket Numbers: ER25-3048-000.

Applicants: RB Inyokern Solar WDAT 1281 LLC.

Description: 205(d) Rate Filing: RB Inyokern Solar WDAT 1281 LLC Revised MBR Tariff to be effective 8/1/2025.

Filed Date: 7/31/25.

Accession Number: 20250731-5088.

Comment Date: 5 p.m. ET 8/21/25.

Docket Numbers: ER25-3049-000.

Applicants: RB Inyokern Solar WDAT 1203 LLC.

Description: 205(d) Rate Filing: RB Inyokern Solar WDAT 1203 LLC Revised MBR Tariff to be effective 8/1/2025.

Filed Date: 7/31/25.

Accession Number: 20250731-5089.

Comment Date: 5 p.m. ET 8/21/25.

Docket Numbers: ER25-3050-000.

Applicants: Ratts 1 Solar LLC.

Description: 205(d) Rate Filing: Ratts 1 Solar LLC Revised MBR Tariff to be effective 8/1/2025.

Filed Date: 7/31/25.

Accession Number: 20250731-5101.

Comment Date: 5 p.m. ET 8/21/25.

Docket Numbers: ER25-3051-000.

Applicants: Ratts 1 Phase 2 Solar, LLC.

Description: 205(d) Rate Filing: Ratts 1 Phase 2 Solar LLC Revised MBR Tariff to be effective 8/1/2025.

Filed Date: 7/31/25.

Accession Number: 20250731-5103.

Comment Date: 5 p.m. ET 8/21/25.

Docket Numbers: ER25-3052-000.

Applicants: NorthWestern Corporation.

Description: 205(d) Rate Filing: SA 682 2nd Rev—NITSA with Western Area Power Administration to be effective 8/1/2025.

Filed Date: 7/31/25.

Accession Number: 20250731-5119.

Comment Date: 5 p.m. ET 8/21/25.

Docket Numbers: ER25-3053-000.

Applicants: PJM Interconnection, L.L.C.

Description: 205(d) Rate Filing: Original NSA, Service Agreement No. 7725; Queue Position No. AF1-325 to be effective 7/1/2025.

Filed Date: 7/31/25.

Accession Number: 20250731-5125.

Comment Date: 5 p.m. ET 8/21/25.

Docket Numbers: ER25-3054-000.

Applicants: Crocker Wind Farm, LLC.

Description: Compliance filing: Revised Market-Based Rate Tariffs to Update Category Seller Status to be effective 8/1/2025.

Filed Date: 7/31/25.

Accession Number: 20250731-5138.

Comment Date: 5 p.m. ET 8/21/25.

Docket Numbers: ER25-3055-000.

Applicants: Fillmore County Solar Project, LLC.

Description: Compliance filing: Revised Market-Based Rate Tariffs to Update Category Seller Status to be effective 8/1/2025.

Filed Date: 7/31/25.

Accession Number: 20250731-5140.

Comment Date: 5 p.m. ET 8/21/25.

Docket Numbers: ER25-3056-000.

Applicants: NorthWestern Corporation.

Description: 205(d) Rate Filing: SA 902 First Revised—Montana State University NITSA_NOA to be effective 8/1/2025.

Filed Date: 7/31/25.

Accession Number: 20250731-5143.

Comment Date: 5 p.m. ET 8/21/25.

Docket Numbers: ER25-3057-000.

Applicants: Geronimo Power Marketing, LLC.

Description: Compliance filing: Revised Market-Based Rate Tariffs to Update Category Seller Status to be effective 8/1/2025.

Filed Date: 7/31/25.

Accession Number: 20250731-5145.

Comment Date: 5 p.m. ET 8/21/25.

Docket Numbers: ER25-3058-000.

Applicants: Louise Solar Project, LLC.

Description: Compliance filing: Revised Market-Based Rate Tariffs to Update Category Seller Status to be effective 8/1/2025.

Filed Date: 7/31/25.

Accession Number: 20250731-5150.

Comment Date: 5 p.m. ET 8/21/25.

Docket Numbers: ER25-3059-000.

Applicants: Southwest Power Pool, Inc.

Description: 205(d) Rate Filing: 1910R28 Southwestern Public Service Company NITSA NOA to be effective 7/1/2025.

Filed Date: 7/31/25.

Accession Number: 20250731-5151.

Comment Date: 5 p.m. ET 8/21/25.

Docket Numbers: ER25-3060-000.

Applicants: Unbridled Solar, LLC.

Description: Compliance filing: Revised Market-Based Rate Tariffs to Update Category Seller Status to be effective 8/1/2025.

Filed Date: 7/31/25.

Accession Number: 20250731-5155.

Comment Date: 5 p.m. ET 8/21/25.

Docket Numbers: ER25-3061-000.

Applicants: Duke Energy Progress, LLC.

Description: 205(d) Rate Filing: Updated Nuclear Decommissioning Expense—RS No. 381 to be effective 10/1/2025.

Filed Date: 7/31/25.

Accession Number: 20250731-5156.

Comment Date: 5 p.m. ET 8/21/25.

Docket Numbers: ER25-3062-000.

Applicants: Wild Springs Solar, LLC.

Description: Compliance filing: Revised Market-Based Rate Tariffs to Update Category Seller Status to be effective 8/1/2025.

Filed Date: 7/31/25.

Accession Number: 20250731-5160.

Comment Date: 5 p.m. ET 8/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: July 31, 2025.
Debbie-Anne A. Reese,
Secretary.

[FR Doc. 2025-14834 Filed 8-4-25; 8:45 am]

BILLING CODE 6717-01-P